DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency has submitted the following proposed information collection to the Office of Management and Budget for review and clearance in accordance with the requirements of the Paperwork Reduction Act of 1995 (44 U.S.C. 3507).

Title: Chemical Stockpile Emergency Preparedness Program (CSEPP) Evaluation and Customer Satisfaction Survey.

Type of Information Collection: Revision of a currently approved collection.

OMB Number: OMB 1660-0057.

Abstract: Consistent with performance measurement requirements set forth by the Government Performance Results Act, the Chemical Stockpile Preparedness Program (CSEPP) will continue collecting data from State, local and tribal governments, individuals, and businesses residing in immediate or surrounding areas of eight chemical stockpile sites. The study will: Assess outreach program effectiveness, measure/monitor customer satisfaction, and identify weaknesses and strengths of individual sites.

Affected Public: Individuals (residents), Businesses, State, local, and tribal governments.

Number of Respondents: 7,374 residents, businesses and government officials.

Estimated Time per Respondent: 15 minutes.

Estimated Total Annual Burden Hours: 1,845.

Frequency of Response: Once annually.

Comments: Interested persons are invited to submit written comments on the proposed information collection to the Office of Information and Regulatory Affairs at OMB, Attention: Desk Officer for the Department of Homeland Security/FEMA, Docket Library, Room 10102, 725 17th Street NW., Washington, DC 20503, or facsimile number (202) 395-7285. Comments must be submitted on or before January 3, 2005.

FOR FURTHER INFORMATION CONTACT: Requests for additional information or copies of the information collection should be made to Muriel B. Anderson, Section Chief, Records Management, FEMA at 500 C Street, SW., Room 316, Washington, DC 20472, facsimile number (202) 646-3347, or e-mail address FEMA-Information-Collections@dhs.gov.

Dated: November 17, 2004.
Edward W. Kernan,
Branch Chief, Information Resources Management Branch, Information Technology Services Division.

[FR Doc. 04-26605 Filed 12-2-04; 8:45 am]

BILLING CODE 9110-13-P